DEPARTMENT OF HEALTH AND HUMAN SERVICES

Centers for Disease Control and Prevention

National Center for Environmental Health/Agency for Toxic Substances and Disease Registry

The Program Peer Review Subcommittee (PPRS) of the Board of Scientific Counselors (BSC), National Center for Environmental Health/Agency for Toxic Substances and Disease Registry (NCEH/ATSDR)

In accordance with section 10(a)(2) of the Federal Advisory Committee Act (Pub. L. 92-463), Centers for Disease Control and Prevention (CDC), announces the following teleconference for the aforementioned subcommittee:

Time and Date: 3 p.m.-5 p.m., July 16, 2007 (Open).

Place: The teleconference will originate at NCEH/ATSDR in Atlanta, Georgia. To participate, dial 877/315-6535 and enter conference code 383520.

Purpose: Under the charge of the BSC, NCEH/ATSDR, the PPRS will provide the BSC, NCEH/ATSDR with advice and recommendations on NCEH/ATSDR Program Peer Review. They will serve the function of organizing, facilitating, and providing a long-term perspective to the conduct of NCEH/ATSDR Program Peer Review.

Matters To Be Discussed: Review and approve the previous Meeting Minutes; Discuss Preparedness and Emergency Response Peer Review; Identify a PPRS Member to participate on the Preparedness Review Workgroup, and areas of expertise needed for the Review; Identify Peer Reviewers, Partners, and Customers to participate on the Workgroup, and Draft the Peer Review Site Visit Agenda.

Agenda items are subject to change as priorities dictate.

Supplementary Information: This meeting is scheduled to begin at 3 p.m. Eastern Daylight Saving Time. Public comment period is scheduled for 4:15-4:25 p.m.

Contact Person for More Information: Sandra Malcom, Committee Management Specialist, Office of Science, NCEH/ATSDR, Mail Stop E-28, 1600 Clifton Road, NE., Atlanta, Georgia 30333, telephone 404/498-0622.

The Director, Management Analysis and Services Office, has been delegated the authority to sign Federal Register notices pertaining to announcements of meetings and other committee management activities for both CDC and the Agency for Toxic Substances and Disease Registry.

Diane Allen,
Acting Director, Management Analysis and Services Office,Centers for Disease Control and Prevention.

[FR Doc. E7-12507 Filed 6-27-07; 8:45 am]

BILLING CODE 4163-18-P